DEPARTMENT OF COMMERCE

Submission for OMB Review; Comment Request

The Department of Commerce has submitted to the Office of Management and Budget (OMB) for clearance the following proposal for collection of information under the provisions of the Paperwork Reduction Act (44 U.S.C. chapter 35).

Agency: National Institute of Standards and Technology (NIST).

Title: Generic Clearance for Program Evaluation Data Collections.

Form Number(s): None.

OMB Approval Number: 0693-0033.

Type of Review: Regular submission.

Burden Hours: 3,022.

Number of Respondents: 4,000.

Average Hours per Response: Varied dependent upon data collection. Average time is expected to be 30 minutes.

Needs and Uses: NIST proposes to conduct surveys designed to evaluate current programs from a customer perspective. The use of these types of data collections will present NIST with a measure of the economic impact of products, services, or assistance provided by NIST and will give NIST customers a mechanism to suggest how programs may be improved and then to provide valuable strategic input on enhancing the future direction of NIST programs.

Affected Public: Business or other for-profit organizations; not-for-profit institutions; individuals or households; Federal government, State, local, or tribal government.

Frequency: On occasion.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, Fax number (202) 395-5167 or via the Internet at Jasmeet_K._Seehra@omb.eop.gov.

Dated: June 28, 2006.
Gwellnar Banks,
Management Analyst, Office of the Chief Information Officer.

[FR Doc. E6-10500 Filed 7-5-06; 8:45 am]

BILLING CODE 3510-13-P